DEPARTMENT OF TRANSPORTATION

Office of the Secretary

Applications of Brendan Air, LLC d/b/a Brendan Airways d/b/a USA 3000 for New Certificate Authority

AGENCY: Department of Transportation.

ACTION: Notice of Order to Show Cause (Order 2001-4-22). Dockets OST-00-8029 and OST-00-8030.

SUMMARY: The Department of Transportation is directing all interested persons to show cause why it should not issue orders (1) finding Brendan Air, LLC d/b/a Brendan Airways and d/b/a USA 3000 fit, willing, and able, and (2) awarding it certificates of public convenience and necessity to engage in interstate and foreign scheduled air transportation of persons, property, and mail.

DATES: Persons wishing to file objections should do so no later than May 2, 2001.

ADDRESSES: Objections and answers to objections should be filed in Dockets OST-00-8029 and OST-00-8030 and addressed to the Department of Transportation Dockets (SVC-124, Room PL-401), US Department of Transportation, 400 Seventh Street, SW., Washington, DC 20590 and should be served upon the parties listed in Attachment A to the order.

FOR FURTHER INFORMATION CONTACT: Mrs. Kathy Lusby Cooperstein, Air Carrier Fitness Division (X-56, Room 6401), US Department of Transportation, 400 Seventh Street, SW., Washington, DC 20590, (202) 366-2337.

Dated: April 17, 2001.
Susan McDermott,
Deputy Assistant Secretary for Aviation and International Affairs.

[FR Doc. 01-9996 Filed 4-20-01; 8:45 am]

BILLING CODE 4910-62-P